DEPARTMENT OF THE TREASURY

Submission for OMB Review; Comment Request

August 6, 2004.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before September 13, 2004 to be assured of consideration.

Internal Revenue Service (IRS)

OMB Number: 1545-1243.

Regulation Project Numbers: PS-163-84 Final.

Type of Review: Extension.

Title: Treatment of Transaction between Partners and Partnerships.

Description: Section 707(a)(2) provides that if there is a transfer of money or property to a partnership, the transfer will be treated, in certain situations, as a disguised sale between the partner and the partnership. The regulations provide that the partner or the partnership should disclose the transfers and certain attendant facts in some situations.

Respondents: Business of other for-profit.

Estimated Number of Respondents: 7,500.

Estimated Burden Hours Respondent: 20 minutes.

Frequency of Response: Annually.

Estimated Total Reporting Burden: 2,500 hours.

Clearance Officer: Glenn P. Kirkland, (202) 622-3428, Internal Revenue Service,Room 6411-03,1111 Constitution Avenue, NW.,Washington, DC 20224.

OMB Reviewer: Joseph F. Lackey, Jr., (202) 395-7316, Office of Management and Budget,Room 10235, New Executive Office Building,Washington, DC 20503.

Lois K. Holland,
Treasury PRA Clearance Officer.

[FR Doc. 04-18579 Filed 8-12-04; 8:45 am]

BILLING CODE 4830-01-P